DEPARTMENT OF HOMELAND SECURITY

Coast Guard

33 CFR Part 64

[Docket No. USCG-2012-0054]

RIN 1625-AC11

Waiver for Marking Sunken Vessels With a Light at Night

AGENCY: Coast Guard, DHS.

ACTION: Notice of correction.

SUMMARY: The Coast Guard is publishing this notice because we published a Notice of Proposed Rulemaking with an outdated Regulatory Identification Number. This notice announces that we have corrected that number.

DATES: The correction of the Regulatory Identification Number is effective on September 10, 2013.

ADDRESSES: You may view the public docket for this rulemaking online by going to www.regulations.gov and using “USCG-2012-0054” as your search term.

FOR FURTHER INFORMATION CONTACT: If you have questions on this rule, call or email Mr. Paul Crissy, Coast Guard; telephone 202-372-1093 email Paul.H.Crissy@uscg.mil. If you have questions on viewing material in the docket, call Barbara Hairston, Program Manager, Docket Operations, telephone 202-366-9826.

SUPPLEMENTARY INFORMATION: The Coast Guard published a Notice of Proposed Rulemaking (NPRM) on May 28, 2013 (78 FR 31872) proposing to add to its regulations a provision in section 301 of the Coast Guard and Maritime Transportation Act of 2004 (Pub. L. 108-293), codified at 33 U.S.C. 409, that authorizes the Commandant to waive the requirement to mark a sunken vessel, raft, or other craft with a light at night if the Commandant determines it would be “impracticable and granting such a waiver would not create an undue hazard to navigation.” We received no comments on the proposed rule, no public meeting was requested, and none was held.

We note, however, that the NPRM was published with an incorrect Regulatory Identification Number (RIN) of 1625-AA97, which was withdrawn in 2008. We have assigned a new RIN, 1625-AC11, to this rule.

Dated: September 3, 2013.
Kathryn Sinniger,
Chief, Office of Regulations and Administrative Law U.S. Coast Guard.

[FR Doc. 2013-21937 Filed 9-9-13; 8:45 am]

BILLING CODE 9110-04-P